DEPARTMENT OF ENERGY

Federal Energy Regulatory Commission

Combined Notice of Filings

Take notice that the Commission has received the following Natural Gas Pipeline Rate and Refund Report filings:

Docket Numbers: RP20-278-000.

Applicants: Chandeleur Pipe Line, LLC.

Description: Compliance filing Chandeleur Annual Fuel and Gas Loss Retention Adjustment Filing.

Filed Date: 11/27/19.

Accession Number: 20191127-5044.

Comments Due: 5 p.m. ET 12/9/19.

Docket Numbers: RP20-279-000.

Applicants: Columbia Gas Transmission, LLC.

Description: § 4(d) Rate Filing: TCO December Negotiated Rate Agreements to be effective 12/1/2019.

Filed Date: 11/27/19.

Accession Number: 20191127-5066.

Comments Due: 5 p.m. ET 12/9/19.

Docket Numbers: RP20-280-000.

Applicants: Dominion Energy Questar Pipeline, LLC.

Description: § 4(d) Rate Filing: FGRP for 2020 to be effective 1/1/2020.

Filed Date: 11/27/19.

Accession Number: 20191127-5069.

Comments Due: 5 p.m. ET 12/9/19.

Docket Numbers: RP20-281-000.

Applicants: Eastern Shore Natural Gas Company.

Description: § 4(d) Rate Filing: Capital Cost Surcharge to be effective 1/1/2020.

Filed Date: 11/27/19.

Accession Number: 20191127-5076.

Comments Due: 5 p.m. ET 12/9/19.

Docket Numbers: RP20-282-000.

Applicants: Iroquois Gas Transmission System, L.P.

Description: § 4(d) Rate Filing: 112719 Negotiated Rates—Mercuria Energy America, Inc. R-7540-02 to be effective 12/1/2019.

Filed Date: 11/27/19.

Accession Number: 20191127-5081.

Comments Due: 5 p.m. ET 12/9/19.

Docket Numbers: RP20-283-000.

Applicants: Mojave Pipeline Company, L.L.C.

Description: § 4(d) Rate Filing: Annual Fuel and L&U Filing 2020 to be effective 1/1/2020.

Filed Date: 11/27/19.

Accession Number: 20191127-5098.

Comments Due: 5 p.m. ET 12/9/19.

Docket Numbers: RP20-284-000.

Applicants: Rockies Express Pipeline LLC.

Description: § 4(d) Rate Filing: Neg Rate 2019-11-27 Ultra to be effective 12/1/2019.

Filed Date: 11/27/19.

Accession Number: 20191127-5108.

Comments Due: 5 p.m. ET 12/9/19.

Docket Numbers: RP20-285-000.

Applicants: El Paso Natural Gas Company, L.L.C.

Description: § 4(d) Rate Filing: Annual Fuel and L&U Filing 2020 to be effective 1/1/2020.

Filed Date: 11/27/19.

Accession Number: 20191127-5120.

Comments Due: 5 p.m. ET 12/9/19.

Docket Numbers: RP20-286-000.

Applicants: El Paso Natural Gas Company, L.L.C.

Description: § 4(d) Rate Filing: Negotiated Rate Agreement Update Filing (Conoco Dec 19) to be effective 12/1/2019.

Filed Date: 11/27/19.

Accession Number: 20191127-5143.

Comments Due: 5 p.m. ET 12/9/19.

Docket Numbers: RP20-287-000.

Applicants: Southern Star Central Gas Pipeline, Inc.

Description: § 4(d) Rate Filing: Vol. 2—Negotiated Rate Agreement—Conexus Energy to be effective 12/1/2019.

Filed Date: 11/27/19.

Accession Number: 20191127-5164.

Comments Due: 5 p.m. ET 12/9/19.

Docket Numbers: RP20-288-000.

Applicants: NEXUS Gas Transmission, LLC.

Description: § 4(d) Rate Filing: Negotiated Rates—Col Gas K860005 Releases eff 12-1-2019 to be effective 12/1/2019.

Filed Date: 11/27/19.

Accession Number: 20191127-5169.

Comments Due: 5 p.m. ET 12/9/19.

Docket Numbers: RP20-289-000.

Applicants: NEXUS Gas Transmission, LLC.

Description: § 4(d) Rate Filing: Negotiated Rate Agreements—DTE and NJR eff 12-1-19 to be effective 12/1/2019.

Filed Date: 11/27/19.

Accession Number: 20191127-5173.

Comments Due: 5 p.m. ET 12/9/19.

Docket Numbers: RP20-290-000.

Applicants: Northern Natural Gas Company.

Description: § 4(d) Rate Filing: 20191127 Negotiated Rates to be effective 12/1/2019.

Filed Date: 11/27/19.

Accession Number: 20191127-5184.

Comments Due: 5 p.m. ET 12/9/19.

Docket Numbers: RP20-291-000.

Applicants: Texas Eastern Transmission, LP.

Description: § 4(d) Rate Filing: Negotiated Rates—Lambertville East Project to be effective 12/1/2019.

Filed Date: 11/29/19.

Accession Number: 20191129-5000.

Comments Due: 5 p.m. ET 12/11/19.

Docket Numbers: RP20-292-000.

Applicants: Eastern Shore Natural Gas Company.

Description: § 4(d) Rate Filing: Negotiated Rate—DCRC to be effective 12/1/2019.

Filed Date: 11/29/19.

Accession Number: 20191129-5021.

Comments Due: 5 p.m. ET 12/11/19.

Docket Numbers: RP20-293-000.

Applicants: Transcontinental Gas Pipe Line Company, LLC.

Description: § 4(d) Rate Filing: Negotiated Rates—Cherokee AGL—Replacement Shippers—Dec 2019 to be effective 12/1/2019.

Filed Date: 11/29/19.

Accession Number: 20191129-5022.

Comments Due: 5 p.m. ET 12/11/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 2, 2019.
Nathaniel J. Davis, Sr.,
Deputy Secretary.

[FR Doc. 2019-26341 Filed 12-5-19; 8:45 am]

BILLING CODE 6717-01-P